DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 2 individuals and 2 entities whose property and interests in property have been blocked pursuant to the Foreign Narcotics Kingpin Designation Act (“Kingpin Act”) (21 U.S.C. 1901-1908, 8 U.S.C. 1182).

DATES: The designation by the Director of OFAC of the 2 individuals and 2 entities identified in this notice pursuant to section 805(b) of the Kingpin Act is effective on June 9, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 9, 2010, the Director of OFAC designated 2 individuals and 2 entities whose property and interests in property are blocked pursuant to section 805(b) of the Foreign Narcotics Kingpin Designation Act.

The list of additional designees is as follows:

Individuals:

1. ALVAREZ ALVAREZ, Wenceslao (a.k.a. Wencho ALVAREZ ALVAREZ; a.k.a. Wenchin ALVAREZ ALVAREZ; a.k.a. Wencholin ALVAREZ ALVAREZ; a.k.a. Dobel ALVAREZ ALVAREZ); Esquina de la Calle Vicente Guerrero Y Plan de Iguala Numero 74, Colonia Libertad, Nueva Italia, Michoacán, Mexico; Calle Articulo 123 Numero 103, Colonia Centro, Nueva Italia, Michoacán, Mexico; Avenida Circuito Mexico Numero 1204 L-29, Colonia Las Americas Britania, CP 58270, Morelia, Michoacán; Calle Ignacio Allende S/N Casi Esquina Con Lazaro Cardenas Norte, Nueva Italia, Michoacán, Mexico; Esquina de Ignacio Allende Numero y Lazaro Cardenas Norte Numero 500, Nueva Italia, Michoacán, Mexico; DOB 13 Jun 1972; C.U.R.P. AAAW720613HMNLLN02 (Mexico); POB Mugica, Michoacán, Mexico; Citizen Mexico; Nationality Mexico; (INDIVIDUAL) [SDNTK]

2. MEJIA GUTIERREZ, Ignacio (a.k.a. Nacho Mejia GUTIERREZ, a.k.a. Ygnacio Mejia GUTIERREZ); c/o Mega Empacadora, Carretera Nueva Italia-Uruapan, Kilometro 2, Colonia La Estacion, C.P. 61760, Nueva Italia, Michoacán, Mexico; DOB 23 April 1946; C.U.R.P. MEGI460423HMNJTG04 (Mexico); POB Ziracuetrio, Michoacán, Mexico; Citizen Mexico; Nationality Mexico; (INDIVIDUAL) [SDNTK]

Entities:

1. Mega Empacadora de Frutas, S.A. de C.V. Carretera Nueva Italia-Uruapan, Kilometro 2, Colonia La Estacion, C.P. 61760, Nueva Italia, Michoacán, Mexico, R.F.C. MEF9603051L4 (Mexico); (ENTITY) [SDNTK]

2. Importaciones y Exportaciones Nobaro S.A. de C.V. Avenida Lazaro Cardenas Numero 730, Nahuatzen, Michoacán, Mexico; Calle Rafael Gomez Campos Numero 249, Colonia El Carriel, Múgica (Nueva Italia), Michoacán, Mexico; Francisco I Madero Numero 105, Colonia Centro, Múgica, Michoacán, Mexico; Calle Ignacio Allende S/N Casi Esquina Con Lazaro Cardenas Norte, Nueva Italia, Estado de Michoacán, Mexico; Esquina de Ignacio Allende Numero Y Lazaro Cardenas Norte Numero 500, Nueva Italia, Estado de Michoacán, Mexico; (ENTITY) [SDNTK]

Dated: June 9, 2010.
Adam J. Szubin,
Director, Office of Foreign Assets Control.

[FR Doc. 2010-14499 Filed 6-15-10; 8:45 am]

BILLING CODE 4810-AL-P